NATIONAL SCIENCE FOUNDATION

Committee Management; Renewals

The NSF management officials having responsibility for the four advisory committees listed below have determined that renewing these groups for another two years is necessary and in the public interest in connection with the performance of duties imposed upon the Director, National Science Foundation (NSF), by 42 U.S.C. 1861 et seq. The committees will be renamed (the current name is in parenthesis). The committee number is to stay the same. This determination follows consultation with the Committee Management Secretariat, General Services Administration.

1. #1756—Proposal Review Panel for Earth Sciences (Earth Sciences Proposal Review Panel)

2. #1569—Proposal Review for Geosciences (Special Emphasis Panel in Geosciences)

3. #1766—Proposal Review Panel for Social, Behavioral, and Economic Sciences (Special Emphasis Panel in Social, Behavioral and Economic Sciences)

4. #1373—Advisory Panel for Integrative Activities (Special Emphasis Panel in Integrative Activities)

Authority for these Committees will expire on June 30, 2003, unless they are renewed. For more information, please contact Susanne Bolton, NSF, at (703) 292-7488.

Dated: June 5, 2001.
Susanne Bolton,
Committee Management Officer.

[FR Doc. 01-14502 Filed 6-7-01; 8:45 am]

BILLING CODE 7555-01-M